DEPARTMENT OF EDUCATION

Applications for New Awards; Assistance for Arts Education Program

AGENCY: Office of Elementary and Secondary Education, Department of Education.

ACTION: Notice.

SUMMARY: The Department of Education is issuing a notice inviting applications for new awards for fiscal year (FY) 2021 for the Assistance for Arts Education (AAE) Program, Assistance Listing Number 84.351A. This notice relates to the approved information collection under OMB control number 1894-0006.

DATES: Applications Available: January 15, 2021.

Deadline for Notice of Intent to Apply: February 16, 2021.

Deadline for Transmittal of Applications: March 16, 2021.

Deadline for Intergovernmental Review: May 17, 2021.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Bonnie Carter, U.S. Department of Education, 400 Maryland Avenue SW, Room 3E308, Washington, DC 20202-6450. Telephone: (202) 401-3576. Email: Bonnie.Carter@ed.gov.

If you use a telecommunications device for the deaf (TDD) or a text telephone (TTY), call the Federal Relay Service (FRS), toll free, at 1-800-877-8339.

Pre-Application Webinar Information: The Department will hold a pre-application meeting via webinar for prospective applicants. For information about the pre-application webinar, visit the Assistance for Arts Education (AAE) programs' websites at: https://oese.ed.gov/offices/office-of-discretionary-grants-support-services/well-rounded-education-programs/arts-in-education-national-program/; https://oese.ed.gov/offices/office-of-discretionary-grants-support-services/well-rounded-education-programs/arts-in-education-model-development-and-dissemination-grants-program/; and https://oese.ed.gov/offices/office-of-discretionary-grants-support-services/well-rounded-education-programs/arts-in-education-professional-development-for-arts-educators/.

SUPPLEMENTARY INFORMATION:

Full Text of Announcement

I. Funding Opportunity Description

Purpose of Program: The AAE program promotes arts education for students, including disadvantaged students and students who are children with disabilities, through activities such as (a) professional development for arts educators, teachers, and principals; (b) development and dissemination of accessible instructional materials and arts-based educational programming, including online resources, in multiple arts disciplines; and (c) community and national outreach activities that strengthen and expand partnerships among schools, local educational agencies (LEAs), communities, or centers for the arts, including national centers for the arts.

Background: The Elementary and Secondary Education Act of 1965, as amended (ESEA), authorizes activities under the Assistance for Arts Education (AAE) program that enrich the academic experience of students by promoting art education. Under the Arts in Education (AIE) program, now AAE, the Department implemented three different grant competitions in alignment with the statutory requirements: Arts in Education Development and Dissemination (AAEDD), Professional Development for Arts Educators (PDAE), and the Arts in Education National Program (AENP). The AAEDD program was designed to focus on the development and dissemination of arts-based educational programming, including online resources, in all arts disciplines, such as music, dance, theater, and visual arts, including folk arts. The PDAE program provided professional development opportunities for thousands of teachers, with an emphasis on both providing sustained and intensive professional development and building capacity for continuation and expansion of professional development efforts beyond the Federal grant period. Most recently, the Arts in Education National Program (AENP) emphasized projects that supported community and national outreach activities that strengthened and expanded partnerships among schools, LEAs, communities, or centers for the arts, including national centers for the arts.

After reviewing the implementation of the three programs offered under AAE, the Department found a large overlap in the applicant and grantee pool, and in the services provided across the various programs. At the same time, given how the three programs differ, applicants have been required to design narrower projects to fit each program's specific requirements and to submit separate applications to each of the three grant competitions. In an effort to recognize and encourage different, creative, and innovative approaches that districts, schools, national arts organizations, and other entities use to increase student access to the arts and integrate arts into the learning process, the Department is now offering the AAE program as one, single competition.

Under one competition, applicants can focus on a more holistic approach to learning that is based on the development and dissemination of arts-based educational programmingand the delivery of sustained and intensive professional development for arts educators, teachers, and principals, while creating new partnerships and strengthening existing partnerships between LEAs and arts organizations. We believe that this change from three competitions to one AAE competition will provide greater flexibility for applicants to design comprehensive arts-focused projects that are based on data and student and community needs.

Priorities: This notice contains two competitive preference priorities and one invitational priority. Competitive Preference Priority 1 is from the Administrative Priorities for Discretionary Grant Programs published in the Federal Register on March 3, 2020 (85 FR 13640) (Administrative Priorities) and Competitive Preference Priority 2 is from section 4642 of the ESEA (20 U.S.C. 7292).

Competitive Preference Priorities: For FY 2021 and any subsequent year in which we make awards from the list of unfunded applications from this competition, these priorities are competitive preference priorities. Under 34 CFR 75.105(c)(2)(i), we award an additional five points to an application that meets Competitive Preference Priority 1 and an additional five points to an application that meets Competitive Preference Priority 2, for a possible maximum 10 points.

These priorities are:

Competitive Preference Priority 1—Applications From New Potential Grantees (0 or 5 points)

Under this priority, an applicant must demonstrate the following:

(a) The applicant has not had an active discretionary grant under the program from which it seeks funds, including through membership in a group application submitted in accordance with 34 CFR 75.127 through 75.129, in the five years before the deadline date for submission of applications under the program.

(b) For the purpose of this priority, a grant or contract is active until the end of the grant's or contract's project or funding period, including any extensions of those periods that extend the grantee's or contractor's authority to obligate funds.

Note: For purposes of this priority, “the program” includes the AENP, AAEDD, and PDAE programs because they are all authorized under AAE.

For new potential grantees unfamiliar with grantmaking at the Department, please consult our funding basics resource at https://www2.ed.gov/documents/funding-101/funding-101-basics.pdf or a more detailed resource at https://www2.ed.gov/documents/funding-101/funding-101.pdf.

Competitive Preference Priority 2—Applicants That Are National Nonprofit Organizations (0 or 5 points)

Under this priority, the Secretary gives priority to eligible entities that are eligible national nonprofit organizations. The term “eligible national nonprofit organization” means an organization of national scope that—

(a) Is supported by staff, which may include volunteers, or affiliates at the State and local levels; and

(b) Demonstrates effectiveness or high-quality plans for addressing arts education activities for disadvantaged students or students who are children with disabilities.

Invitational Priority: For FY 2021 and any subsequent year in which we make awards from the list of unfunded applications from this competition, this priority is an invitational priority. Under 34 CFR 75.105(c)(1) we do not give an application that meets this invitational priority a competitive or absolute preference over other applications.

This priority is:

Art Therapy

Under this priority, an applicant must describe how it will include art therapy in their project to improve cognitive and sensory-motor functions, foster self-esteem and self-awareness, cultivate emotional resilience, promote insight, enhance social skills, or reduce and resolve conflicts and distress.

Requirements: For FY 2021 and any subsequent year in which we make awards from the list of unfunded applications from this competition, the following application and program requirements from section 4642 of the ESEA (20 U.S.C. 7292) apply.

Application Requirement. Applicants that are LEAs must provide, in the application, data from the most recent U.S. Census as evidence that the LEAs meet the statutory requirement that 20 percent or more of the students served by the LEA (or for each LEA within a consortium of LEAs) are from families with an income below the Federal poverty line.

Note: Other applicants that are eligible under the definition of an LEA, such as County Offices of Education, Education Service Districts, and Regional Service Education Agencies, must provide the most recent U.S. Census data for each of the individual LEAs served. For charter schools for which U.S. Census data is not available, eligibility will be based on a determination by the State educational agency (SEA), consistent with the manner in which the SEA determines the charter school LEA's eligibility for the Title I allocations, that 20 percent of the students aged 5-17 in the LEA are from families with incomes below the poverty line. Applicants must submit documentation from the State certifying official verifying that the SEA has determined this eligibility requirement is met for each LEA not listed in the Small Area Income Poverty Estimates (SAIPE) data.

Program Requirements. Projects funded under this program must include—

(1) Professional development for arts educators, teachers, and principals;

(2) Development and dissemination of accessible instructional materials and arts-based educational programming, including online resources, in multiple arts disciplines; and

(3) Community and national outreach activities that strengthen and expand partnerships among schools, LEAs, communities, or centers for the arts, including national centers for the arts.

Definitions: The definitions of “demonstrates a rationale,” “logic model,” “project component,” and “relevant outcome,” are from 34 CFR 77.1. The definitions of “child with a disability,” “local educational agency,” and “State educational agency” are from section 8101 of the ESEA (20 U.S.C. 7801). The definition for “national nonprofit” is from section 4642 of the ESEA (20 U.S.C. 7292).

Child with a disability means a child (i) with intellectual disabilities, hearing impairments (including deafness), speech or language impairments, visual impairments (including blindness), serious emotional disturbance (hereinafter referred to as “emotional disturbance”), orthopedic impairments, autism, traumatic brain injury, other health impairments, or specific learning disabilities; and (ii) who, by reason thereof, needs special education and related services.

Demonstrates a rationale means a key project component included in the project's logic model that is informed by research or evaluation findings that suggest the project component is likely to improve relevant outcomes.

Local educational agency means: (A) In general—The term ”local educational agency” means a public board of education or other public authority legally constituted within a State for either administrative control or direction of, or to perform a service function for, public elementary schools or secondary schools in a city, county, township, school district, or other political subdivision of a State, or of or for a combination of school districts or counties that is recognized in a State as an administrative agency for its public elementary schools or secondary schools.

(B) Administrative Control and Direction—The term includes any other public institution or agency having administrative control and direction of a public elementary school or secondary school.

(C) Bureau of Indian Education Schools—The term includes an elementary school or secondary school funded by the Bureau of Indian Education but only to the extent that including the school makes the school eligible for programs for which specific eligibility is not provided to the school in another provision of law and the school does not have a student population that is smaller than the student population of the local educational agency receiving assistance under this Act with the smallest student population, except that the school shall not be subject to the jurisdiction of any State educational agency other than the Bureau of Indian Education.

(D) Educational Service Agencies—The term includes educational service agencies and consortia of those agencies.

(E) State Educational Agency—The term includes the State educational agency in a State in which the State educational agency is the sole educational agency for all public schools.

Logic model (also referred to as a theory of action) means a framework that identifies key project components of the proposed project (i.e., the active “ingredients” that are hypothesized to be critical to achieving the relevant outcomes) and describes the theoretical and operational relationships among the key project components and relevant outcomes.

National nonprofit means an organization of national scope that—

(A) Is supported by staff, which may include volunteers, or affiliates at the State and local levels; and

(B) Demonstrates effectiveness or high-quality plans for addressing arts education activities for disadvantaged students or students who are children with disabilities.

Project component means an activity, strategy, intervention, process, product, practice, or policy included in a project. Evidence may pertain to an individual project component or to a combination of project components (e.g., training teachers on instructional practices for English learners and follow-on coaching for these teachers).

Relevant outcome means the student outcome(s) or other outcome(s) the key project component is designed to improve, consistent with the specific goals of the program.

State educational agency means the agency primarily responsible for the State supervision of public elementary schools and secondary schools.

Program Authority: 20 U.S.C. 7292.

Note: Projects must be awarded and operated in a manner consistent with the nondiscrimination requirements contained in the U.S. Constitution and the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 299. (e) Administrative Priorities.

Note: The regulations in 34 CFR part 79 apply to all applicants except federally recognized Indian Tribes.

Note: The regulations in 34 CFR part 86 apply to institutions of higher education (IHEs) only.

II. Award Information

Type of Award: Discretionary grants.

Estimated Available Funds: $16,500,000.

Estimated Range of Awards: $375,000-$2,000,000.

Estimated Average Size of Awards: $675,000.

Estimated Number of Awards: 20-25.

Note: The Department is not bound by any estimates in this notice.

Project Period: Up to 60 months.

III. Eligibility Information

1. Eligible Applicants: To be considered for an award under this competition, an applicant must—

(a) Be one of the following:

(1) An LEA in which 20 percent or more of the students served by the local educational agency are from families with an income below the poverty line; ¹

¹ An LEA must show that at least 20 percent of children ages five to 17 that reside within the LEA's boundaries are from low-income families based on the most recent LEA poverty estimates provided by the U.S. Census Bureau. The Census LEA poverty estimates are available at: www.census.gov/programs-surveys/saipe.html.

(2) A consortium of such LEAs;

(3) An SEA;

(4) An IHE;

(5) A museum or cultural institution;

(6) The Bureau of Indian Education;

(7) An eligible national nonprofit organization; or

(8) Another private agency, institution, or organization.

Note: If you are a nonprofit organization, under 34 CFR 75.51, you may demonstrate your nonprofit status by providing: (1) Proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

2. a. Cost Sharing or Matching: This competition does not require cost sharing or matching.

b. Supplement-Not-Supplant: This competition involves supplement-not-supplant funding requirements. Under section 4642(b)(2) of the ESEA, funds must be used to supplement, and not supplant, non-Federal funds that would otherwise be used for activities authorized under this program (20 U.S.C. 1221e-3, 3474, and 6511(a)). Accordingly, grantees must comply with 34 CFR 76.564 through 76.569, which apply to agencies of State and local governments that are grantees under programs with a statutory requirement prohibiting the use of Federal funds to supplant non-Federal funds.

c. Indirect Cost Rate Information: This competition uses a restricted indirect cost rate. For more information regarding indirect costs, or to obtain a negotiated indirect cost rate, please see www2.ed.gov/about/offices/list/ocfo/intro.html.

d. Administrative Cost Limitation: This competition does not include any program-specific limitation on administrative expenses. All administrative expenses must be reasonable and necessary and conform to Cost Principles described in 2 CFR part 200, subpart E, of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Submission of Proprietary Information: Given the types of projects that may be proposed in applications for the AAE program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 25 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; the one-page abstract, resumes, bibliography, logic model, or letters of support. However, the recommended page limit does apply to all of the application narrative.

Note: The applicant should include, as an attachment, the logic model used to address selection criterion (a)(5).

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210 and are as follows:

(a) Quality of the project design (up to 30 points).

The Secretary considers the quality of the design of the proposed project. In determining the quality of the design of the proposed project, the Secretary considers the following factors:

(1) The extent to which the goals, objectives, and outcomes to be achieved by the proposed project are clearly specified and measurable.

(2) The extent to which the design of the proposed project is appropriate to, and will successfully address, the needs of the target population or other identified needs.

(3) The extent to which the design for implementing and evaluating the proposed project will result in information to guide possible replication of project activities or strategies, including information about the effectiveness of the approach or strategies employed by the project.

(4) The extent to which the proposed project represents an exceptional approach for meeting statutory purposes and requirements.

(5) The extent to which the proposed project demonstrates a rationale (as defined in 34 CFR 77.1(c)).

(b) Quality of project services (up to 25 points).

The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(1) The extent to which the training or professional development services to be provided by the proposed project are of sufficient quality, intensity, and duration to lead to improvements in practice among the recipients of those services.

(2) The likelihood that the services to be provided by the proposed project will lead to improvements in the achievement of students as measured against rigorous academic standards.

(3) The likely impact of the services to be provided by the proposed project on the intended recipients of those services.

(4) The extent to which the services to be provided by the proposed project involve the collaboration of appropriate partners for maximizing the effectiveness of project services.

(c) Quality of project personnel (up to 10 points).

The Secretary considers the quality of the personnel who will carry out the proposed project. In determining the quality of project personnel, the Secretary considers the extent to which the applicant encourages applications for employment from persons who are members of groups that have traditionally been underrepresented based on race, color, national origin, gender, age, or disability.

In addition, the Secretary considers the qualifications, including relevant training and experience, of key project personnel.

(d) Quality of the management plan (up to 20 points).

The Secretary considers the quality of the management plan for the proposed project. In determining the quality of the management plan for the proposed project, the Secretary considers:

(1) The adequacy of the management plan to achieve the objectives of the proposed project on time and within budget, including clearly defined responsibilities, timelines, and milestones for accomplishing project tasks.

(2) The adequacy of procedures for ensuring feedback and continuous improvement in the operation of the proposed project.

(3) The adequacy of mechanisms for ensuring high-quality products and services from the proposed project.

(4) How the applicant will ensure that a diversity of perspectives are brought to bear in the operation of the proposed project, including those of parents, teachers, the business community, a variety of disciplinary and professional fields, recipients or beneficiaries of services, or others, as appropriate.

(e) Quality of the project evaluation (up to 15 points).

The Secretary considers the quality of the evaluation to be conducted of the proposed project. In determining the quality of the evaluation, the Secretary considers the following factors:

(1) The extent to which the methods of evaluation are thorough, feasible, and appropriate to the goals, objectives, and outcomes of the proposed project.

(2) The extent to which the methods of evaluation include the use of objective performance measures that are clearly related to the intended outcomes of the project and will produce quantitative and qualitative data to the extent possible.

(3) The extent to which the methods of evaluation will provide valid and reliable performance data on relevant outcomes.

Note: This selection factor for project evaluation relates only to performance measure (1) under the Performance Measures section of this notice.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, appendix XII, require you to report certain integrity information to FAPIIS semiannually. Please review the requirements in 2 CFR part 200, appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Promoting the freedom of speech and religious liberty in alignment with Promoting Free Speech and Religious Liberty (E.O. 13798) and Improving Free Inquiry, Transparency, and Accountability at Colleges and Universities (E.O. 13864) (2 CFR 200.300, 200.303, 200.339, and 200.341);

(d) Providing a preference, to the extent permitted by law, to maximize use of goods, products, and materials produced in the United States (2 CFR 200.322); and

(e) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for the AAE program: (1) The number of grantees that attain or exceed the targets for a majority of the outcome indicators for their projects; (2) The percentage of AAE participants (e.g., arts educators, teachers, principals, and other support staff) who complete 75 percent or more of the total hours of professional development offered; and (3) The number of accessible, arts-based instructional materials that are developed.

All grantees will be expected to submit an annual performance report that includes data addressing these performance measures to the extent that they apply to the grantee's project.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2021-00705 Filed 1-14-21; 8:45 am]

BILLING CODE 4000-01-P